DEPARTMENT OF COMMERCE

Census Bureau

Proposed Information Collection; Comment Request; 2009-2011 Company Organization Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 4, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Cynthia M. Wrenn-Yorker, U.S. Census Bureau, Room 8K319, Washington, DC 20233-6100 (or by e-mail at Cynthia.M.Wrenn-Yorker@census.gov).

SUPPLEMENTARY INFORMATION:

I. Abstract

The Census Bureau conducts the annual Company Organization Survey (COS) to update and maintain a central, multipurpose Business Register (BR). In particular, the COS supplies critical information on the composition, organizational structure, and operating characteristics of multi-location companies.

The BR serves two fundamental purposes:

—First, and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, and name and address information.

—Second, it provides establishment data that serve as the basis for the annual County Business Patterns (CBP) statistical series. The CBP reports present data on number of establishments, first quarter payroll, annual payroll, and mid-March employment summarized by industry and employment size class for the United States, the District of Columbia, Puerto Rico, counties, and county-equivalents. No other annual or more frequent series of industry statistics provides comparable detail, particularly for small geographic areas.

II. Method of Collection

The Census Bureau will conduct the 2009-2011 COS in a similar manner as the 2008 COS. These collections will direct inquiries to approximately 43,000 multi-establishment companies, which operate over 1.2 million establishments. This panel will be drawn from the BR universe of nearly 200,000 multi-establishment companies, which operate 1.6 million establishments. Additionally, the panel will include approximately 5,000 large single-establishment companies that may have added locations during the year.

The mailing list for the 2009-2011 COS will include a certainty component, consisting of all multi-establishment companies with 250 or more employees, and those multi-establishment companies with administrative record values that indicate organizational changes. A non-certainty component will be drawn from the remaining multi-establishment companies based on employment size. The mailing list also will include entities that are most likely to have added establishments at other locations.

The primary collection medium for the COS is a paper questionnaire; however, many enterprises will submit automated/electronic COS reports. For 2009-2011, electronic reporting will be available to all COS respondents. Companies will receive and return responses by secure Internet transmission. Companies that cannot use the Internet will receive a CD-ROM containing their electronic data. All respondents will be allowed to mail the data via diskette or CD-ROM or submit their response data via the Internet. COS data is identical for all of the operating modes.

The instrument will include inquiries on ownership or control by domestic or foreign parents, ownership of foreign affiliates, and leased employment. Further, the instrument will list an inventory of establishments belonging to the company and its subsidiaries, and request updates to these inventories, including additions, deletions, and changes to information on EIN, name and address, and industrial classification, end-of-year operating status, mid-March employment, first quarter payroll, and annual payroll.

Additionally, the Census Bureau will ask certain questions in the 2009-2011 COS in order to enhance content. We will include questions on leased employees working in the company, questions on research and development activities performed by the company, and questions on new or significantly improved methods of manufacturing, producing, delivering or distributing goods or services within the company.

III. Data

OMB Control Number: 0607-0444.

Form Number: NC-99001 and NC-99007 (for single-location companies).

Type of Review: Regular submission.

Affected Public: Businesses and not-for-profit institutions.

Estimated Number of Respondents: 48,000 enterprises.

Estimated Time per Response: 1.59 hours.

Estimated Total Annual Burden Hours: 127,517.

Estimated Total Annual Cost: $3,643,161.

Respondent's Obligation: Mandatory.

Legal Authority: Title 13 of U.S.C. Sections 182, 195, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 2, 2009.
Glenna Mickelson,
Management Analyst, Office of the Chief Information Officer.

[FR Doc. E9-13153 Filed 6-4-09; 8:45 am]

BILLING CODE 3510-07-P